DEPARTMENT OF DEFENSE

Department of the Army, Corps of Engineers

Notice of Availability for the Draft Environmental Impact Statement/Environmental Impact Report for the Middle Harbor Redevelopment Project of the Port of Long Beach, Los Angeles County, CA

AGENCY: U.S. Army Corps of Engineers, Los Angeles District, DoD.

ACTION: Notice of Availability (NOA).

SUMMARY: The U.S. Army Corps of Engineers, Los Angeles District (Corps) in coordination with the Port of Long Beach has completed a Draft Environmental Impact Statement/ Environmental Impact Report (EIS/EIR) for the Middle Harbor Redevelopment project in the Port of Long Beach. The Corps is considering an application for Section 404 and Section 10 permits to conduct dredge and fill activities associated with the proposed consolidation of Piers D, E and F into a single 345-acre marine terminal with a 4,250-foot-long wharf at build-out. This would include redevelopment of 294 acres of existing land, creation of 10.7 acres of new open water and the placement of dredged material in 65.3 acres open water for a net gain of approximately 54.6 acres of new land in the consolidated terminal. The new terminal, which would be constructed over a 10-year time period, is intended to accommodate increasing cargo volumes being produced by the new generation of larger container vessels, and would include four deep-water berths, a container terminal yard, and an intermodal rail yard.

FOR FURTHER INFORMATION CONTACT: Comments and questions regarding scoping of the Draft EIS/EIR may be addressed to: U.S. Army Corps of Engineers, Los Angeles District, Regulatory Branch, ATTN: File Number 2004-01053-AOA, P.O. Box 532711, Los Angeles, California 90053-2325. Comments or questions can also be sent to Stacey Crouch, Port of Long Beach, P.O. Box 570, Long Beach, CA 90801-0570. Phone messages or questions should be directed to Antal Szijj at 805-585-2147.

Dated: April 29, 2008.
Mark Durham,
Acting Chief, Regulatory Division, Los Angeles District, Corps of Engineers.

[FR Doc. E8-10908 Filed 5-15-08; 8:45 am]

BILLING CODE 3710-KF-P